DEPARTMENT OF JUSTICE

Notice of Lodging of Consent Decree Pursuant to the Comprehensive Environmental Response Compensation and Liability Act (“CERCLA”)

Notice is hereby given that a proposed consent decree in United States and New Jersey Department of Environmental Protection v. Marisol, Inc., Civ. Action No. 94-3687 (D.N.J.), was lodged on January 19, 2001 with the United States District Court for the District of New Jersey. The consent decree concerns hazardous waste contamination at the Lang Property Superfund Site (the “Site”), located in Pemberton Township, New Jersey. The consent decree would resolve Marisol, Incorporated's (“Marisol”) liability for reimbursement of past response costs incurred by the United States in connection with the Site. The United States filed a complaint on behalf of the United States Environmental Protection Agency (“EPA”) against Marisol. The consent decree requires Marisol to reimburse the EPA Hazardous Substance Superfund $9,787,500.00 for its past costs pertaining to the Site.

The Department of Justice will receive, for a period of thirty (30) days from the date of this publication, comments relating to the proposed consent decree. Comments should be addressed to the Assistant Attorney General, Environment and Natural Resources Division, P.O. Box 7611, U.S. Department of Justice, Washington, DC 20044-7611, and should refer to United States and New Jersey Department of Environmental Protection v. Marisol, Inc., DOJ Ref. # 90-11-2-519A.

The proposed consent decree may be examined at the office of the United States Attorney for the District of New Jersey, 402 East State St., Room 502, Trenton, New Jersey, 08608 (contact Assistant United States Attorney Irene Dowdy); and the Region II Office of the Environmental Protection Agency, 290 Broadway, New York, New York 10007-1866 (contact Assistant Regional Counsel Patricia Hick). A copy of the proposed consent decree may be obtained by mail from the Consent Decree Library, PO Box 7611, Washington, DC 20044-7611. In requesting a copy please refer to the referenced case and enclose a check in the amount of $7.50 (25 cents per page reproduction costs), payable to the Consent Decree Library.

Bruce S. Gelber,
Chief, Environmental Enforcement Section, Environment and Natural Resources Division.

[FR Doc. 01-4060 Filed 2-16-01; 8:45 am]

BILLING CODE 4410-15-M